DEPARTMENT OF ENERGY

Federal Energy Regulatory Commission

[Project No. 2660-028]

Woodland Pulp LLC; Notice of Effectiveness of Withdrawal of Surrender Application

On December 26, 2016, Woodland Pulp LLC filed an application to surrender the license for the Forest City Project No. 2660, located on the East Branch of the St. Croix River in Washington and Aroostook Counties, Maine. On December 15, 2023, Woodland Pulp LLC filed a notice withdrawing that application.

No motion in opposition to the notice of withdrawal has been filed, and the Commission has taken no action to disallow it. Accordingly, pursuant to Rule 216(b) of the Commission's Rules of Practice and Procedure,¹ Woodland Pulp's withdraw of its application became effective on January 2, 2024.

¹ 18 CFR 385.216(b) (2023).

Dated: January 9, 2024.
Debbie-Anne A. Reese,
Acting Secretary.

[FR Doc. 2024-00718 Filed 1-16-24; 8:45 am]

BILLING CODE 6717-01-P